DEPARTMENT OF LABOR

Employment and Training Administration

[TA-W-54,098]

Cibola, Hickory, NC; Notice of Termination of Investigation

Pursuant to section 221 of the Trade Act of 1974, as amended, an investigation was initiated on January 29, 2004, in response to a petition filed on behalf of workers at Cibola, Hickory, North Carolina.

The Department has been unable to locate the company official for the subject group or to obtain the information necessary to reach a determination on worker group eligibility. Consequently, further investigation in this case would serve no purpose, and the investigation has been terminated.

Signed at Washington, DC, this 26th day of March, 2004.
Richard Church,
Certifying Officer, Division of Trade Adjustment Assistance.

[FR Doc. 04-7749 Filed 4-5-04; 8:45 am]

BILLING CODE 4510-30-P